FEDERAL ELECTION COMMISSION

[Notice 2013-02]

Filing Dates for the South Carolina Special Elections in the 1st Congressional District

AGENCY: Federal Election Commission.

ACTION: Notice of filing dates for special elections.

SUMMARY: South Carolina has scheduled special elections to fill the U.S. House seat in the 1st Congressional District vacated by Senator Tim Scott. There are three possible special elections, but only two may be necessary.

• Primary Election: March 19, 2013.

• Possible Runoff Election: April 2, 2013. In the event that one candidate does not achieve a majority vote in his/her party's Special Primary Election, the top two vote-getters will participate in a Special Runoff Election.

• General Election: May 7, 2013.

FOR FURTHER INFORMATION CONTACT: Ms. Elizabeth S. Kurland, Information Division, 999 E Street NW., Washington, DC 20463; Telephone: (202) 694-1100; Toll Free (800) 424-9530.

SUPPLEMENTARY INFORMATION:

Principal Campaign Committees

Special Primary Only

All principal campaign committees of candidates who only participate in the South Carolina Special Primary shall file a 12-day Pre-Primary Report on March 7, 2013. (See chart below for the closing date for the report.)

Special Primary and General Without Runoff

If only two elections are held, all principal campaign committees of candidates participating in the South Carolina Special Primary and Special General Elections shall file a 12-day Pre-Primary Report on March 7, 2013; a Pre-General Report on April 25, 2013; and a Post-General Report on June 6, 2013. (See chart below for the closing date for each report.)

Special Primary and Runoff Elections

All principal campaign committees of candidates only participating in the South Carolina Special Primary and Special Runoff Elections shall file a 12-day Pre-Primary Report on March 7, 2013; and a Pre-Runoff Report on March 21, 2013. (See chart below for the closing date for each report.)

Special Primary, Runoff and General Elections

All principal campaign committees of candidates participating in the South Carolina Special Primary, Special Runoff and Special General Elections shall file a 12-day Pre-Primary Report on March 7, 2013; a Pre-Runoff Report on March 21, 2013; a Pre-General Report on April 25, 2013; and a Post-General Report on June 6, 2013. (See chart below for the closing date for each report.)

Unauthorized Committees (PACs and Party Committees)

Political committees filing on a semi-annual basis in 2013 are subject to special election reporting if they make previously undisclosed contributions or expenditures in connection with the South Carolina Special Primary, Special Runoff or Special General Elections by the close of books for the applicable report(s). (See chart below for the closing date for each report.)

Committees filing monthly that make contributions or expenditures in connection with the South Carolina Special Primary, Special Runoff or Special General Elections will continue to file according to the monthly reporting schedule.

Additional disclosure information in connection with the South Carolina Special Elections may be found on the FEC Web site at http://www.fec.gov/info/report_dates.shtml.

Disclosure of Lobbyist Bundling Activity

Principal campaign committees, party committees and Leadership PACs that are otherwise required to file reports in connection with the special elections must simultaneously file FEC Form 3L if they receive two or more bundled contributions from lobbyists/registrants or lobbyist/registrant PACs that aggregate in excess of the lobbyist bundling disclosure threshold during the special election reporting periods (see charts below for closing date of each period). 11 CFR 104.22(a)(5)(v).

The lobbyist bundling disclosure threshold for calendar year 2012 was $16,700. This threshold amount may change in 2013 based upon the annual cost of living adjustment (COLA). Once the adjusted threshold amount becomes available, the Commission will publish it in the Federal Register and post it on its Web site.

Calendar of Reporting Dates for South Carolina Special Elections
Report | Close of books ¹ | Reg./cert. & overnight mailing deadline | Filing deadline
Quarterly Filing Committees Involved in Only the Special Primary (03/19/13) Must File:
Pre-Primary | 02/27/13 | 03/04/13 | 03/07/13
April Quarterly | 03/31/13 | 04/15/13 | 04/15/13
Semi-Annual Filing Committees Involved in Only the Special Primary (03/19/13) Must File:
Pre-Primary | 02/27/13 | 03/04/13 | 03/07/13
Mid-Year | 06/30/13 | 07/31/13 | 07/31/13
If Only Two Elections Are Held, Quarterly Filing Committees Involved in the Special Primary (03/19/13) and Special General (05/07/13) Must File:
Pre-Primary | 02/27/13 | 03/04/13 | 03/07/13
April Quarterly | WAIVED
Pre-General | 04/17/13 | 04/22/13 | 04/25/13
Post-General | 05/27/13 | 06/06/13 | 06/06/13
July Quarterly | 06/30/13 | 07/15/13 | 07/15/13
If Only Two Elections Are Held, Semi-Annual Filing Committees Involved in the Special Primary (03/19/13) and Special General (05/07/13) Must File:
Pre-Primary | 02/27/13 | 03/04/13 | 03/07/13
Pre-General | 04/17/13 | 04/22/13 | 04/25/13
Post-General | 05/27/13 | 06/06/13 | 06/06/13
Mid-Year | 06/30/13 | 07/31/13 | 07/31/13
If Three Elections Are Held, Quarterly Filing Committees Involved in the Special Primary (03/19/13) and Special Runoff (04/02/13) Must File:
Pre-Primary | 02/27/13 | 03/04/13 | 03/07/13
Pre-Runoff | 03/13/13 | ² 03/21/13 | 03/21/13
April Quarterly | 03/31/13 | 04/15/13 | 04/15/13
If Three Elections Are Held, Semi-Annual Filing Committees Involved in the Special Primary (03/19/13) and Special Runoff (04/02/13) Must File:
Pre-Primary | 02/27/13 | 03/04/13 | 03/07/13
Pre-Runoff | 03/13/13 | ² 03/21/13 | 03/21/13
Mid-Year | 06/30/13 | 07/31/13 | 07/31/13
If Three Elections Are Held, Quarterly Filing Committees Involved in the Special Primary (03/19/13), Special Runoff (04/02/13) and Special General (05/07/13) Must File:
Pre-Primary | 02/27/13 | 03/04/13 | 03/07/13
Pre-Runoff | 03/13/13 | ² 03/21/13 | 03/21/13
April Quarterly | WAIVED
Pre-General | 04/17/13 | 04/22/13 | 04/25/13
Post-General | 05/27/13 | 06/06/13 | 06/06/13
July Quarterly | 06/30/13 | 07/15/13 | 07/15/13
If Three Elections Are Held, Semi-Annual Filing Committees Involved in the Special Primary (03/19/13), Special Runoff (04/02/13) and Special General (05/07/13) Must File:
Pre-Primary | 02/27/13 | 03/04/13 | 03/07/13
Pre-Runoff | 03/13/13 | ² 03/21/13 | 03/21/13
Pre-General | 04/17/13 | 04/22/13 | 04/25/13
Post-General | 05/27/13 | 06/06/13 | 06/06/13
Mid-Year | 06/30/13 | 07/31/13 | 07/31/13
Quarterly Filing Committees Involved in Only the Special Runoff (04/02/13) Must File:
Pre-Runoff | 03/13/13 | ² 03/21/13 | 03/21/13
April Quarterly | 03/31/13 | 04/15/13 | 04/15/13
Semi-Annual Filing Committees Involved in Only the Special Runoff (04/02/13) Must File:
Pre-Runoff | 03/13/13 | ² 03/21/13 | 03/21/13
Mid-Year | 06/30/13 | 07/31/13 | 07/31/13
Quarterly Filing Committees Involved in Only the Special General (05/07/13) Must File:
April Quarterly | WAIVED
Pre-General | 04/17/13 | 04/22/13 | 04/25/13
Post-General | 05/27/13 | 06/06/13 | 06/06/13
July Quarterly | 06/30/13 | 07/15/13 | 07/15/13
Semi-Annual Filing Committees Involved in Only the Special General (05/07/13) Must File:
Pre-General | 04/17/13 | 04/22/13 | 04/25/13
Post-General | 05/27/13 | 06/06/13 | 06/06/13
Mid-Year | 06/30/13 | 07/31/13 | 07/31/13
¹ These dates indicate the end of the reporting period. A reporting period always begins the day after the closing date of the last report filed. If the committee is new and has not previously filed a report, the first report must cover all activity that occurred before the committee registered as a political committee with the Commission up through the close of books for the first report due.
² The mailing deadline is the same as the filing deadline because the computed mailing deadline would fall one day before the primary is held.

On behalf of the Commission,
Dated: January 29, 2013.
Ellen L. Weintraub,
Chair, Federal Election Commission.

[FR Doc. 2013-02257 Filed 2-1-13; 8:45 am]

BILLING CODE 6715-01-P